DEPARTMENT OF HEALTH AND HUMAN SERVICES

National Institutes of Health

Center for Scientific Review; Amended Notice of Meeting

Notice is hereby given of a change in the meeting of the Center for Scientific Review Special Emphasis Panel, February 10, 2010, 8 a.m. to February 10, 2010, 5 p.m., National Institutes of Health, 6701 Rockledge Drive, Bethesda, MD 20892, which was published in the Federal Register on January 11, 2010, 75 FR 1397-1399.

The meeting has been changed to a video assisted meeting. The meeting time has been changed to 11 a.m. to 3 p.m. on February 10, 2010. The meeting is closed to the public.

Dated: January 28, 2010.
Jennifer Spaeth,
Director, Office of Federal Advisory Committee Policy.

[FR Doc. 2010-2437 Filed 2-4-10; 8:45 am]

BILLING CODE 4140-01-P